DEPARTMENT OF COMMERCE

National Oceanic and Atmospheric Administration

[I.D. 121103C]

Proposed Information Collection; Comment Request; Alaska Region Gear Identification Requirements

AGENCY: National Oceanic and Atmospheric Administration (NOAA) Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 17, 2004.

ADDRESSES: Direct all written comments to Diana Hynek, Departmental Paperwork Clearance Officer, Department of Commerce, Room 6625, 14th and Constitution Avenue NW., Washington, DC 20230 (or via the Internet at dHynek@doc.gov).

FOR FURTHER INFORMATION CONTACT: Requests for additional information or copies of the information collection instrument and instructions should be directed to Patsy A. Bearden, 907-586-7008, or Patsy.Bearden@noaa.gov.

SUPPLEMENTARY INFORMATION:

I. Abstract

Regulations at 50 CFR 679.24 require that all hook-and-line, longline pot, and pot-and-line marker buoys carried on board or used by any vessel regulated under 50 CFR part 679 shall be marked with the vessel name, Federal permit number, or registration number. The regulations also specify the size and color of markings. The marking of gear aids law enforcement and enables other fishermen to report on misplaced gear.

II. Method of Collection

No information is collected; this is a gear-marking requirement.

III. Data

OMB Number: 0648-0353.

Form Number: None.

Type of Review: Regular submission.

Affected Public: Business or other for-profit organizations, and individuals or households.

Estimated Number of Respondents: 2,116.

Estimated Time Per Response: 15 minutes per buoy.

Estimated Total Annual Burden Hours: 3,750.

Estimated Total Annual Cost to Public: $4,332.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 10, 2003.
Gwellnar Banks,
Management Analyst, Office of the Chief Information Officer.

[FR Doc. 03-31137 Filed 12-16-03; 8:45 am]

BILLING CODE 3510-22-S